DEPARTMENT OF ENERGY

Notice of Extension of Rate Schedules

AGENCY: Southeastern Power Administration, DOE.

ACTION: Notice of Rate Extension.

SUMMARY: The Deputy Secretary of the Department of Energy confirmed and approved an extension of Rate Schedules JW-1-J and JW-2-F through September 30, 2016. This short 11 day extension will allow the billing and rate terms to align going forward in the new rate to be proposed effective October 1, 2016 and to be announced in a separate Federal Register Notice.

DATES: Approval of extension of the rate schedules is effective September 20, 2016.

FOR FURTHER INFORMATION CONTACT: Virgil G. Hobbs III, Assistant Administrator, Finance & Marketing, Southeastern Power Administration, Department of Energy, 1166 Athens Tech Road, Elberton, Georgia 30635-6711, (706) 213-3800.

SUPPLEMENTARY INFORMATION: The Commission, by Order issued December 22, 2011, in Docket No. EF11-12-000, confirmed and approved Wholesale Power Rate Schedules JW-1-J and JW-2-F for a period ending September 19, 2016.

Dated: March 25, 2016.
Elizabeth Sherwood-Randall,
Deputy Secretary.

Department of Energy

Deputy Secretary

Rate Order No. SEPA-60.

In the Matter of: Southeastern Power Administration—Jim Woodruff Project Power Rates

Order Confirming and Approving Power Rates On an Interim Basis

Pursuant to Sections 302(a) of the Department of Energy Organization Act, Public Law 95-91, the functions of the Secretary of the Interior and the Federal Power Commission under Section 5 of the Flood Control Act of 1944, 16 U.S.C. 825s, relating to the Southeastern Power Administration (“Southeastern” or “SEPA”) were transferred to and vested in the Secretary of Energy. By Delegation Order No. 00-037.00A, effective October 25, 2013, the Secretary of Energy delegated to Southeastern's Administrator the authority to develop power and transmission rates, delegated to the Deputy Secretary of Energy the authority to confirm, approve, and place in effect such rates on an interim basis, and delegated to the Federal Energy Regulatory Commission (“Commission”) the authority to confirm, approve, and place into effect on a final basis or to disapprove rates developed by the Administrator under the delegation. This rate order is issued by the Deputy Secretary pursuant to said delegation.

Pursuant to 10 CFR 903.23(b), an existing rate may be extended on a temporary basis by the Deputy Secretary without advanced notice or comment. The Deputy Secretary shall publish said extension in the Federal Register and promptly advise the Commission of the extension.

Background

Power from the Jim Woodruff Project is presently sold under Wholesale Power Rate Schedules JW-1-J and JW-2-F. These rate schedules were approved by the Commission on December 22, 2011, for a period ending September 19, 2016 (137 FERC ¶62,248). Effective June 21, 2015, Southeastern, Duke Energy Florida, and the preference customers agreed to a change in the billing cycle to conform to the calendar month. Previously, the billing cycle occurred on the 20th of each month. This rate extension is to cover the transition period in the billing cycle before implementing new rate schedules.

Discussion

System Repayment

An examination of Southeastern's revised system power repayment study, prepared in February, 2016, for the Jim Woodruff Project, shows that with the extended rates, all system power costs are paid within the 50-year repayment period required by existing law and DOE Order RA 6120.2.

Environmental Impact

Southeastern has reviewed the possible environmental impacts of the rate adjustment under consideration and has concluded the extended rates would not significantly affect the quality of the human environment within the meaning of the National Environmental Policy Act of 1969. The proposed action is not a major Federal action for which preparation of an Environmental Impact Statement is required.

Availability of Information

Information regarding these rates, including studies, and other supporting materials, is available for public review in the offices of Southeastern Power Administration, 1166 Athens Tech Road, Elberton, Georgia 30635-6711.

[FR Doc. 2016-07288 Filed 3-30-16; 8:45 am]

BILLING CODE 6450-01-P